DEPARTMENT OF THE INTERIOR

Bureau of Land Management

[CACA-44014]

Notice of Intent To Prepare an Environmental Impact Statement (EIS) on the Proposed Expansion/Modernization of an Existing Wallboard Manufacturing Facility and Associated Quarry Operation

AGENCY: Bureau of Land Management, Interior.

ACTION: Notice of intent.

SUMMARY: United States Gypsum (USG) has proposed the expansion and modernization of USG's Plaster City wallboard manufacturing operations and Fish Creek Quarry operations located in Imperial County, California. Although USG's facilities are primarily on private land, several appurtenances cross public land. Using the U.S. government survey method, the areas within which the existing and proposed facilities are located are generally described as follows: SBBM, T.16S., R.11E. (Plaster City wallboard plant and portion of Interstate rail line; T.13S., R.9E. (Fish Creek quarry); T.13S., R.9E.; T.13S., R.10E.; T.14S., R.10E.; T.15E., R.10E., T.15S., R.11E.; T.16S., R.11E. (narrow gauge rail line between quarry and plant); T.16S., R.10E.; T.16S, R.11E. (water pipeline between Ocotillo and plant).

Pursuant to section 102(2)(c) of the National Environmental Policy Act of 1969, the BLM will direct the preparation of an environmental impact statement (EIS) by a third-party contractor on the impacts of this proposed project. Interested members of the public are encouraged to identify significant issues or concerns related to the proposed action to determine the scope of the issues (including alternatives) that need to be analyzed and to eliminate from detailed study those issues that are not significant. One public scoping meeting will be held. The location and time of the meeting will be announced in local newspapers or may be obtained by contacting Nicole Riven at 760-337-4426 or e-mail nriven@ca.blm.gov. Comments recommending that the EIS address specific environmental issues should include supporting documentation. Written comments must be received at the El Centro Field Office no later than June 10, 2002. Comments, including names and street addresses of respondents, will be available for public review at the El Centro Field Office during regular business hours and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

ADDRESSES: Written comments should be addressed to Greg Thomsen, Field Manager, Bureau of Land Management, El Centro Field Office, 1661 South 4th Street, El Centro, CA 92243.

FOR FURTHER INFORMATION CONTACT: Linda Self (760) 337-4426.

SUPPLEMENTARY INFORMATION: USG's Plaster City wallboard plant has been in operation for over 55 years and is located adjacent to Evan Hewes Highway in Plaster City approximately 18 miles west of El Centro and 2 miles north of Interstate 8. The Fish Creek Quarry operations are located on Split Mountain Road approximately 26 miles north by northwest of Plaster City. The quarry operations are located within designated critical habitat for the Peninsular bighorn sheep (Ovis canadensis). Water for the facility is delivered via pipeline from the Ocotillo-Coyote Wells Groundwater Basin. Generally, the overall expansion/modernization project consists of construction of new buildings, a doubling in wallboard production by removing one operating production wallboard line, and installing a new state-of-the-art high speed line and increased mining of gypsum from 1.1 million tons per year (mty) to approximately 1.9 mty on land reserves owned and mined by USG. The project also includes expanding existing and planned quarry areas. The accumulated inert materials associated with the expanded manufacturing activities at the Plaster City site will be recycled or transferred to a landfill. To accommodate the expanded operations, water usage will increase from 400 acre-feet per year (AF/Yr) to a maximum of 767 AF/Yr. The project will include modernizing the existing warehouses, storage structures, and rail loading facility; upgrading electrical transmission lines (by Imperial Irrigation District); maintaining the narrow gauge rail line which runs between the plant and the quarry; replacing the existing pipeline that runs between Ocotillo and the plant and relocating a short portion of the Interstate rail line that runs through the Plaster City facility. Some of these facilities may be located within habitat for the Flat-tailed horned lizard (Phrynosoma mcalli). Although certain aspects of the project have already been implemented pursuant to Imperial County's previous decision to adopt a Negative Declaration for portions of the project, for purposes of this EIS, the “ baseline” for evaluating the potential impacts of the project on the environment shall be the physical conditions that existed prior to project implementation.

Dated: April 25, 2002.
Greg Thomsen,
Field Manager.

[FR Doc. 02-10687 Filed 4-30-02; 8:45 am]

BILLING CODE 4310-40-P